SMALL BUSINESS ADMINISTRATION

[Disaster Declaration #20533 and #20534; FLORIDA Disaster Number FL-20009]

Presidential Declaration Amendment of a Major Disaster for the State of Florida

AGENCY: Small Business Administration.

ACTION: Amendment 3.

SUMMARY: This is an amendment of the Presidential declaration of a major disaster for the State of Florida (FEMA-4806-DR), dated 08/10/2024.

Incident: Hurricane Debby.

Incident Period: 08/01/2024 through 08/27/2024.

DATES: Issued on 08/30/2024.

Physical Loan Application Deadline Date: 10/09/2024.

Economic Injury (EIDL) Loan Application Deadline Date: 05/12/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Florida, dated 08/10/2024, is hereby amended to update the incident period for this disaster as beginning 08/01/2024 and continuing through 08/27/2024.

All other information in the original declaration remains unchanged.

(Catalog of Federal Domestic Assistance Number 59008)

Francisco Sánchez, Jr.,
Associate Administrator, Office of Disaster Recovery & Resilience.

[FR Doc. 2024-20354 Filed 9-9-24; 8:45 am]

BILLING CODE 8026-09-P